OFFICE OF GOVERNMENT ETHICS

Proposed Collection; Comment Request for an Unmodified OGE Form 201 Ethics Act Access Form

AGENCY: Office of Government Ethics (OGE).

ACTION: Notice.

SUMMARY: After this first round notice and public comment period, OGE plans to submit an unmodified OGE Form 201 to the Office of Management and Budget (OMB) for review and approval of a three-year extension under the Paperwork Reduction Act. The OGE Form 201 is used by persons for requesting access to executive branch public financial disclosure reports and other covered records. OGE is proposing no changes to the form at this time.

DATES: Written comments by the agencies and the public on this proposed extension are invited and should be received by January 19, 2010.

ADDRESSES: You may submit comments to OGE by any of the following methods:

• E-Mail: usoge@oge.gov. For E-mail messages, the subject line should include the following reference: “OGE Form 201 Paperwork Comment.”

• Fax: 202-482-9237.

• Mail, Hand Delivery or Courier: Office of Government Ethics, Suite 500, 1201 New York Avenue, NW., Washington, DC 20005-3917, Attention: Paul D. Ledvina.

FOR FURTHER INFORMATION CONTACT: Paul D. Ledvina, Records Officer, Office of Government Ethics; telephone: 202-482-9247; TTY: 800-877-8339; Fax: 202-482-9237; E-mail: pledvina@oge.gov. An electronic copy of the OGE Form 201 is available in the Forms Library section of OGE's Web site at http://www.usoge.gov. A paper copy may also be obtained, without charge, by contacting Mr. Ledvina.

SUPPLEMENTARY INFORMATION: The Office of Government Ethics is the supervising ethics office for the executive branch of the Federal Government under section 109(18)(D) of the Ethics in Government Act (the Ethics Act), 5 U.S.C. appendix, § 109(18)(D). OGE is planning to submit, after this notice and comment period, an unmodified OGE Form 201 “Request to Inspect or Receive Copies of SF 278 Executive Branch Personnel Public Financial Disclosure Reports or Other Covered Records” for review and three-year extension of approval by OMB under the Paperwork Reduction Act of 1995 (44 U.S.C. chapter 35). Prior to the expiration of this proposed three-year extension, OGE may propose, and submit to OMB for approval, a modified OGE 201 form that provides requesters with an option to submit the form electronically.

The OGE Form 201 (OMB control # 3209-0002) collects information from, and provides certain information to, persons who seek access to SF 278 reports and other covered records. The form reflects the requirements of the Ethics Act and OGE's implementing regulations that must be met by a person before access can be granted. These requirements relate to information about the identity of the requester, as well as any other person on whose behalf a record is sought, and a notification of prohibited uses of SF 278 reports. See section 105(b) and (c) of the Ethics Act, 5 U.S.C. appendix, § 105(b) and (c), and 5 CFR 2634.603(c) and (f) of OGE's executive branchwide regulations thereunder.

Executive branch departments and agencies are encouraged to utilize the OGE Form 201. Agencies can, if they so choose, continue to use or develop their own forms as long as those forms contain all the information required by the Ethics Act and OGE regulations, and include the appropriate Privacy Act and paperwork notices with any attendant clearances being obtained by the agencies.

Reporting Burden

OGE estimates that an average of 450 OGE Form 201s will be filed throughout the executive branch each year by members of the public (primarily by news media, public interest groups and private citizens) during the period 2010 through 2012. This figure is based on the number of OGE Form 201s filed at OGE by members of the public (155 for 2006, 138 for 2007 and 79 for 2008) and those filed at other departments and agencies in the executive branch (138 for 2006, 135 for 2007 and 127 for 2008) as reported on OGE's annual agency ethics program questionnaire. The three-year annual average was then adjusted to reflect the typical, significant increase in the number of OGE Form 201s filed by the public during and following a Presidential transition. During the first half of the 2009 Presidential transition year, 310 forms were filed with OGE. (OGE does not have, at this time, recent statistics covering the number of forms filed with other departments and agencies in the executive branch.) Using these figures, OGE estimates that there will be an annual average of 450 forms submitted to OGE and the other executive branch departments and agencies for the years 2010 through 2012.

The estimated average amount of time to complete the form, including review of the instructions, remains at 10 minutes. Thus, the estimated annual public burden for the OGE Form 201 (throughout the executive branch) is 75 hours (450 forms × 10 minutes per form—number rounded down). This is an increase from the current estimated burden of 61 hours.

Web Site Distribution of Blank Forms

The OGE Form 201 will continue to be made available free-of-charge to the public as well as departments and agencies, as a downloadable, fillable, and printable, Portable Document Format (PDF) file. This PDF version is located in the Forms Library section of OGE's Internet Web site at http://www.usoge.gov.

OGE will continue to permit departments and agencies to use the version of the OGE Form 201 available on OGE's Web site or to develop and utilize their own, electronic versions of the OGE form, provided that they precisely duplicate the original to the extent possible.

Consideration of Comments

Public comment is invited on each aspect of the unmodified OGE Form 201 as set forth in this notice, including specifically views on the need for and practical utility of this information collection; the accuracy of OGE's burden estimate; the enhancement of quality, utility and clarity of the information collected; and the minimization of burden (including the use of information technology).

Comments received in response to this notice will be summarized for, and may be included with, the OGE request for OMB paperwork approval for this proposed unmodified information collection. The comments will also become a matter of public record.

Approved: November 5, 2009.
Robert I. Cusick,
Director, Office of Government Ethics.

[FR Doc. E9-27569 Filed 11-16-09; 8:45 am]

BILLING CODE 6345-03-P